DEPARTMENT OF THE TREASURY

Internal Revenue Service

Electronic Tax Administration Advisory Committee Meeting

AGENCY: Internal Revenue Service, Department of Treasury.

ACTION: Notice of meeting.

SUMMARY: The Electronic Tax Administration Advisory Committee (ETAAC) will hold a public meeting.

DATES: The meeting will be held on Wednesday, November 3, 2021, from 3:00 to 4:00 p.m. Eastern Daylight Time.

ADDRESSES: The meeting will be held virtually via Zoom.

FOR FURTHER INFORMATION CONTACT: Mr. Sean Parman, Office of National Public Liaison, at (202) 317-6247, or send an email to publicliaison@irs.gov.

SUPPLEMENTARY INFORMATION: Notice is hereby given pursuant to section 10(a)(2) of the Federal Advisory Committee Act, 5 U.S.C. App. (1988), that a public meeting of the ETAAC will be held on Wednesday, November 3, 2021, to discuss topics that may be recommended for inclusion in a future report of the Committee.

The meeting will be held from 3:00 to 4:00 p.m. Eastern Daylight Time. It will take place via Zoom.

To register and receive the meeting link, members of the public may contact Mr. Sean Parman by calling 202-317-6247 or sending an email to PublicLiaison@irs.gov.

The ETAAC was established under statute to provide continuing advice to the IRS regarding the IRS organizational strategy for electronic tax administration. The Committee discusses issues pertaining to electronic tax administration, including the prevention of identity theft and refund fraud. It supports the overriding goal that paperless filing should be the preferred and most convenient method of filing tax and information returns. ETAAC members convey the public's perceptions of IRS electronic tax administration activities, offer constructive observations about current or proposed policies, programs and procedures, and suggest improvements.

Time permitting, prior to the close of the meeting, interested persons may make oral statements germane to the Committee's work. Anyone wishing to make an oral statement should contact Mr. Sean Parman at PublicLiaison@irs.gov and include the written text or an outline of the proposed comments. In addition, members of the public may submit written statements by sending to: PublicLiaison@irs.gov.

Dated: October 13, 2021.
John A. Lipold,
Designated Federal Officer, Electronic Tax Administration Advisory Committee.

[FR Doc. 2021-22658 Filed 10-15-21; 8:45 am]

BILLING CODE 4830-01-P